ENVIRONMENTAL PROTECTION AGENCY

[ER-8583-1]

Environmental Impacts Statements; Notice of Availability

Responsible Agency: Office of Federal Activities, General Information (202) 564-7167 or http://www.epa.gov/compliance/nepa/.

Weekly receipt of Environmental Impact Statements

Filed June 16, 2008 Through June 20, 2008

Pursuant to 40 CFR 1506.9.

EIS No. 20080241, Draft EIS, USN, 00, Virginia Capes (VACAPES) Range Complex, Proposed action is to Support and Conduct Current and Emerging Training and RDT & E Operations, Chesapeake Bay, DE, MD, VA and NC, Comment Period Ends: 08/11/2008, Contact: Karen Foskey 703-602-2859.

EIS No. 20080242, Draft EIS, BLM, VA, East Lynn Lake Coal Lease Project, Proposal to Lease Federal Coal that lies under Nine Tracts of Land for Mining, Wayne County, VA, Comment Period Ends: 09/24/2008, Contact: Chris Carusona 414-297-4463.

EIS No. 20080243, Draft EIS, USN, 00, Jacksonville Range Complex Project, To Support and Conduct Current and Emerging Training and RDT&E Operations, NC, SC, GA and FL, Comment Period Ends: 08/11/2008, Contact: Karen Foskey 703-602-2859.

EIS No. 20080244, Final EIS, FAA, FL, Fort Lauderdale-Hollywood International Airport, Proposed Development and Extension of Runway 9R/27L and other Associated Airport Projects, Funding, U.S. Army COE Section 404 Permit and NPDES Permit, Fort Lauderdale, Broward County, FL, Wait Period Ends: 07/28/2008, Contact: Virginia Lane 407-812-6331.

EIS No. 20080245, Final EIS, FHW, UT, I-15 Corridor Project, Transportation Improvement from Utah County to Salt Lake County, UT, Wait Period Ends: 07/28/2008, Contact: Carlos C. Machado 801-963-0182.

EIS No. 20080246, Final Supplement, AFS, UT, West Bear Vegetation Management Project, Additional Information to Improve a Portion of the Cumulative Effects Analysis and Correct the Soils Analysis, Timber Harvesting, Prescribed Burning, Roads Construction, Township 1 North, Range 9 East, Salt Lake Principle Meridian, Evanston Ranger District, Wasatch-Cache National Forest, Summit County, UT, Wait Period Ends: 07/28/2008, Contact: Larry Johnson 307-783-3790.

EIS No. 20080247, Final EIS, NCP, DC, Smithsonian Institution National Museum of African American History and Culture, Construction and Operation, Between 14th and 15th Streets, NW., and Constitution Avenue, NW., and Madison Drive, NW., Washington, DC, Wait Period Ends: 07/28/2008, Contact: Gene Keller 202-482-7251.

EIS No. 20080248, Final EIS, AFS, ID, Idaho Cobalt Project, Development of Two Underground Mines, a Waste Disposal Site and Associated Facilities, Approval of Plan-of-Operation, Salmon-Cobalt Ranger District, Salmon-Challis National Forest, Lemhi County, ID, Wait Period Ends: 07/28/2008, Contact: Kimberly Nelson 208-756-5200.

EIS No. 20080249, Final Supplement, BLM, WY, Pinedale Anticline Oil and Gas Exploration and Development Project, Additional Information on Two New Alternatives, Consolidated Development with Year-Round Development (Construction, Drilling, Completion, and Production), Sublette County, WY, Wait Period Ends: 07/28/2008, Contact: Caleb Hiner 307-367-5352.

EIS No. 20080250, Draft EIS, FHW, CA, Orange County Gateway Project, To Provide Grade Separation Alternative along the Burlington Northern Santa Fe Railroad Tracks from west of Bradford Avenue to west of Imperial Highway (State Route 90), Cities of Placentia and Anaheim, Orange County, CA, Comment Period Ends: 08/11/2008, Contact: Scott McHenry 916-498-5854.

EIS No. 20080251, Draft EIS, AFS, CA, Moonlight and Wheeler Fires Recovery and Restoration Project, Proposes to Harvest Fire-Killed Merchantable Trees on 15,568 Acres, Mt. Hough Ranger District, Plumas National Forest, Plumas County, CA, Comment Period Ends: 08/11/2008, Contact: Rich Bednarski 530-283-7641.

EIS No. 20080252, Draft EIS, DHS, 00, National Bio and Agro-Defense Facility, Proposal to Site, Construct, and Operate at one of the Proposed Locations: (1) South Milledge Avenue Site, Clarke County, GA; (2) Manhattan Campus Site, Riley County, KS; (3) Flora Industrial Park Site, Madison County, MS; (4) Plum Island Site, Suffolk County, NY; (5) Umstead Research Park Site, Granville County, NC; and (6) Texas Research Park Site, Bexar and Medina Counties, TX, Comment Period Ends: 08/25/2008, Contact: James V. Johnson 202-254-6098.

EIS No. 20080253, Draft EIS, NOA, 00, Amendment 4 to the Spiny Lobster Fishery Management Plan of Puerto Rico and the U.S. Virgin Islands and Amendment 8 to the Spiny Lobster Fishery Management Plan of the Gulf of Mexico and South Atlantic, To Address the Harvest and Exportation of Undersized Lobster Tails to the United States, Comment PeriodEnds: 08/11/2008, Contact: Roy E. Crabtree, PhD 727-824-5301.

EIS No. 20080254, Final EIS, NOA, MA, ADOPTION—Neptune Liquefied Natural Gas (LNG), Construction and Operation, Deepwater Port License Application, (Docket Number USCG-2004-22611) Massachusetts Bay, Gloucester and Boston, MA, Contact: James H. Lecky 301-713-2332. US DOC/NOA adopted the US CGD & MARAD Final Supplemental EIS 20060451 filed 10/27/2006. NOA was a cooperating agency on the project. Recirculation of the document is not necessary under 1506.3(b) of the CEQ Regulations.

Amended Notices

EIS No. 20080200, Draft EIS, AFS, UT, Dixie National Forest Motorized Travel Plan, Implementation, Dixie National and the Teasdale portion of the Fremont River Ranger District on the Fishlake National Forest, Garfield, Iron, Kane, Piute, Washington and Wayne Counties, UT, Comment Period Ends: 07/22/2008, Contact: Andi Falsetto 435-896-9233. Revision of FR Notice Published 05/23/2008: Extending Comment Period 07/07/2008 to 07/22/2008.

Dated: June 24, 2008.
Ken Mittelholtz,
Environmental Protection Specialist, Office of Federal Activities.

[FR Doc. E8-14626 Filed 6-26-08; 8:45 am]

BILLING CODE 6560-50-P